DEPARTMENT OF ENERGY

Federal Energy Regulatory Commission

[Docket No. EL19-11-000]

American Wind Energy Association, The Wind Coalition v. Southwest Power Pool, Inc.; Notice of Complaint

Take notice that on November 2, 2018, pursuant to sections 206, 306, and 309 of the Federal Power Act, 16 U.S.C. 824e, 825e, and 825h, and section 206 of the Federal Energy Regulatory Commission's (Commission) Rules of Practice and Procedure, 18 CFR 385.206 (2018), the American Wind Energy Association and The Wind Coalition (collectively, Complainants) filed a formal complaint (complaint) against Southwest Power Pool, Inc. (Respondent) requesting that the Commission find that sections of the Respondent's Financial Obligations of Withdrawing Members Bylaws and Membership Agreement, as applied to Independent Power Producer and other similarly situated non-transmission owners and non-load-serving entities, are unlawful, unjust and unreasonable, and unduly discriminatory, as more fully explained in the complaint.

Complainants certify that a copy of the complaint has been served on the contacts for the Respondent as listed on the Commission's website in the list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on November 23, 2018.

Dated: November 6, 2018.
Kimberly D. Bose,
Secretary.

[FR Doc. 2018-24702 Filed 11-9-18; 8:45 am]

BILLING CODE 6717-01-P